DEPARTMENT OF AGRICULTURE

Submission for OMB Review; Comment Request

September 6, 2017.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by October 11, 2017 will be considered. Written comments should be addressed to: Desk Officer for Agriculture, Office of Information and Regulatory Affairs, Office of Management and Budget (OMB), New Executive Office Building, 725 17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Rural Business-Cooperative Service

Title: Advanced Biofuel Payment Program.

OMB Control Number: 0570-0063.

Summary of Collection: Section 9005 of Title IX of the Food, Conservation, and Energy Act of 2008 (2008 Farm Bill) authorizes Rural Business-Cooperative Service (RBS) to enter into contracts to make payments to eligible entities to support and ensure an expanding production of advanced biofuels. To receive payments under the Program, eligible entities are producers of advanced biofuels that meet all of the requirements of the Program. Eligible entities can be an individual or legal entity, including a corporation, company, foundation, association, labor organization, firm, partnership, society, joint stock company, group of organizations, or non-profit that produces an advanced biofuel and that sells the advanced biofuel on the commercial market.

Need and Use of the Information: To participate in the program, advanced biofuel producers must enroll by submitting an application (Form RD-4288-1) which includes specific information about the producer and the producer's advanced biofuel bio-refineries. This information will be used to determine applicant eligibility and if the advanced biofuel being produced is eligible for payments under the Program. Once the producer is approved for participation in the Program, the producer and Agency will enter into a contract (Form RD 4288-2). After the contract is signed the producer will submit payment requests using (Form RD 4288-3) preferably on a quarterly basis.

Description of Respondents: Business or other for-profit; Individuals.

Number of Respondents: 288.

Frequency of Responses: Reporting: Quarterly, Annually.

Total Burden Hours: 1,846.

Charlene Parker,
Departmental Information Collection Clearance Officer.

[FR Doc. 2017-19182 Filed 9-8-17; 8:45 am]

BILLING CODE 3410-XY-P